DEPARTMENT OF STATE

[Public Notice:11125]

Certification Pursuant to Section 7045(a)(2)(A) of the Department Of State, Foreign Operations, and Related Programs Appropriations Act, 2020

Pursuant to section 7045(a)(1)(B) and section 7045(a)(2)(A) of the Department of State, Foreign Operations, and Related Programs Appropriations Act, 2020 (Div. G, Pub. L. 116-94), per delegation of authority 245-2, I hereby certify that the central government of Honduras is:

(a) Combating corruption and impunity, including prosecuting corrupt government officials;

(b) Implementing reforms, policies, and programs to increase transparency and strengthen public institutions;

(c) Protecting the rights of civil society, opposition political parties, and the independence of the media;

(d) Providing effective and accountable law enforcement and security for its citizens, and upholding due process of law;

(e) Implementing policies to reduce poverty and promote equitable economic growth and opportunity;

(f) Supporting the independence of the judiciary and of electoral institutions;

(g) Improving border security;

(h) Combating human smuggling and trafficking and countering the activities of criminal gangs, drug traffickers, and transnational criminal organizations; and

(i) Informing its citizens of the dangers of the journey to the southwest border of the United States.

This certification shall be published in the Federal Register and, along with the accompanying Memorandum of Justification, shall be reported to Congress.

Dated May 7, 2020.
Stephen E. Biegun,
Deputy Secretary of State.

[FR Doc. 2020-11382 Filed 5-22-20; 4:15 pm]

BILLING CODE 4710-29-P